Title 3—

The President

Memorandum of March 11, 2003

Implementation of Section 3107 of the Farm Security and Rural Investment Act of 2002, Relating to Food for Education and Child Nutrition

Memorandum for the Secretary of Agriculture

Effective upon the publication of this memorandum in the Federal Register, there is established the program relating to food for education and child nutrition authorized by subsection 3107(b) of the Farm Security and Rural Investment Act of 2002 (Public Law 107-171) (7 U.S.C. 17360-1). Pursuant to subsection 3107(d) of the Act, the Department of Agriculture is designated to take actions specified in that subsection. The authorities and duties of the President under section 3107 (except the authority to designate under 3107(d)) are delegated to the Secretary of Agriculture.

In the implementation of a program for which section 3107 provides, the Secretary of Agriculture shall consult as appropriate with the Food Policy Assistance Council established by section 3 of Executive Order 12752 of February 25, 1991, as amended, and such heads of Federal departments and agencies as the Secretary determines appropriate.

You are authorized and directed to publish this memorandum in the Federal Register.

B

THE WHITE HOUSE,

Washington, March 11, 2003.

[FR Doc. 03-6455

Filed 3-14-03; 8:45 am]

Billing code 3410-10-M